DEPARTMENT OF THE INTERIOR

Bureau of Land Management

[LLWO35000.L14300000.FR0000]

Renewal of Approved Information Collection; OMB Control No. 1004-0029

AGENCY: Bureau of Land Management, Interior.

ACTION: 60-Day Notice and Request for Comments.

SUMMARY: In compliance with the Paperwork Reduction Act, the Bureau of Land Management (BLM) invites public comments on, and plans to request approval to continue, the collection of information from applicants for a land patent under the Color-of-Title Act. The Office of Management and Budget (OMB) has assigned control number 1004-0029 to this information collection.

DATES: Submit comments on the proposed information collection by August 17, 2015.

ADDRESSES: Comments may be submitted by mail, fax, or electronic mail. Mail: U.S. Department of the Interior, Bureau of Land Management, 1849 C Street, NW., Room 2134LM, Attention: Jean Sonneman, Washington, DC 20240.

Fax: to Jean Sonneman at 202-245-0050.

Electronic mail: Jean_Sonneman@blm.gov.

Please indicate “Attn: 1004-0029” regardless of the form of your comments.

FOR FURTHER INFORMATION CONTACT: Flora Bell, at 202-912-7347. Persons who use a telecommunication device for the deaf (TDD) may call the Federal Information Relay Service (FIRS) at 1-800-877-8339, to leave a message for Ms. Bell.

SUPPLEMENTARY INFORMATION: OMB regulations at 5 CFR 1320, which implement provisions of the Paperwork Reduction Act, 44 U.S.C. 3501-3521, require that interested members of the public and affected agencies be given an opportunity to comment on information collection and recordkeeping activities (see 5 CFR 1320.8 (d) and 1320.12(a)). This notice identifies an information collection that the BLM plans to submit to OMB for approval. The Paperwork Reduction Act provides that an agency may not conduct or sponsor a collection of information unless it displays a currently valid OMB control number. Until OMB approves a collection of information, you are not obligated to respond.

The BLM will request a 3-year term of approval for this information collection activity. Comments are invited on: (1) The need for the collection of information for the performance of the functions of the agency; (2) the accuracy of the agency's burden estimates; (3) ways to enhance the quality, utility and clarity of the information collection; and (4) ways to minimize the information collection burden on respondents, such as use of automated means of collection of the information. A summary of the public comments will accompany our submission of the information collection requests to OMB.

The following information is provided for the information collection:

Title: Color-of-Title Application (43 CFR Subparts 2540 and 2541).

Forms

• Form 2540-1, Color-of-Title Application;

• Form 2540-2, Color-of-Title Conveyances Affecting Color or Claim of Title; and

• Form 2540-3, Color-of-Title Tax Levy and Payment Record.

OMB Control Number: 1004-0029.

Abstract: The Color-of-Title Act (43 U.S.C. 1068, 1068a, and 1068b) provides for the issuance of a land patent to a tract of public land of up to 160 acres, where the claimant shows peaceful, adverse possession of the tract in good faith for more than 20 years, as well as sufficient improvement or cultivation of the land. The information covered in this submission enables the BLM to determine whether or not such a claimant has made a showing that is sufficient under the pertinent statutory and regulatory criteria.

Frequency of Collection: Once.

Estimated Number and Description of Respondents Annually: 5 individuals, 1 group, and 1 association.

Estimated Reporting and Recordkeeping “Hour” Burden Annually: 12 hours.

Estimated Reporting and Recordkeeping “Non-Hour Cost” Burden: $70 ($10 per application).

The following table details the individual components and respective hour burdens of this information collection request:

A. Type of response | B. Number of responses | C. Time per response | D. Total hours (Column B × Column C)
Color-of-Title Application/Individuals | 5 | 2 | 10
Color-of-Title Application/Groups | 1 | 2 | 2
Color-of-Title Application/Corporations | 1 | 2 | 2
Totals | 7 |  | 12

Before including your address, phone number, email address, or other personal identifying information in your comment, you should be aware that your entire comment—including your personal identifying information—may be made publicly available at any time. While you can ask us in your comment to withhold your personal identifying information from public review, we cannot guarantee that we will be able to do so.

Jean Sonneman,
Bureau of Land Management, Information Collection Clearance Officer.

[FR Doc. 2015-14712 Filed 6-15-15; 8:45 am]

BILLING CODE 4310-84-P